POSTAL REGULATORY COMMISSION

[Docket No. PI2010-1; Order No. 335]

Inquiry Into Suspended Post Offices

AGENCY: Postal Regulatory Commission.

ACTION: Notice.

SUMMARY: The Commission is establishing a docket to address Postal Service practices related to suspension of post offices. It invites comments from the public on this topic.

DATES: 1. Comments are due: January 15, 2010. 2. Reply comments are due: February 16, 2010.

ADDRESSES: Submit comments electronically via the Commission's Filing Online system at http://www.prc.gov. Commenters who cannot submit their views electronically should contact the person identified FOR FURTHER INFORMATION CONTACT by telephone for advice on alternatives to electronic filing.

FOR FURTHER INFORMATION CONTACT: Stephen L. Sharfman, General Counsel, 202-789-6820 or stephen.sharfman@prc.gov.

SUPPLEMENTARY INFORMATION:

I. Background

II. Public Representative

III. Ordering Paragraphs

I. Background

Order No. 319 concluded Docket No. A2009-1, Appeal of the Hacker Valley, West Virginia Post Office Closing.¹ During that proceeding, information came to light that convinced the Commission that further inquiry and analysis was necessary. On August 14, 2009, the Postal Service filed with the Commission its response to Commission Information Request No. 1, questions 1 through 13 (CIR No. 1).² The Commission concerns arose as a result of the responses to questions 6 through 9. The Commission gathers from the Postal Service's responses that 97 post offices have been suspended due to lease expiration during the past 5 years and most of them remain suspended. Response to CIR No. 1 at 8. The Commission initiates this public inquiry to develop further information on the status of these suspended offices and the Postal Service practice of suspending offices for extended periods without affording the public the rights guaranteed by 39 U.S.C. 404(d). The Commission seeks input from the public on this matter.

¹ Docket No. A2009-1, Order on Appeal of Hacker Valley, West Virginia Post Office Closing, October 19, 2009 (Order No. 319).

² Response of the United States Postal Service to Commission Information Request No. 1, August 14, 2009 (Response).

In CIR No. 1, questions 6 through 9, the Commission sought information pertaining to post offices suspended during the last 5 years due to lease expirations. The Postal Service's response to CIR No. 1, question 6, informs the Commission that 97 offices have been suspended from 2004 to 2009. Id. The response includes a list naming each of the 97 offices, their ZIP Codes, and date of suspension. In CIR No. 1, question 7, the Commission asks how many of the suspended post offices were subsequently closed. The Postal Service responds that 25 of the 97 offices were subsequently closed and provides another list adding a column providing the close date. Id. at 12. CIR No. 1, question 8, seeks to know how many of the suspended post offices were reopened. The Postal Service states that 2 of the 97 offices have been reopened. Id. at 14. CIR No. 1, question 9, asks how many of the suspended offices are pending closure. The Postal Service reported that the closure process had been initiated for five offices. Id. at 15. Based on these responses, the Commission establishes that 65 post offices suspended due to the expiration of a facility lease during the previous 5 years remain suspended.

The Commission is concerned that post office customers throughout the nation do not have access to local post offices and their services due to suspensions. It is evident that several post offices have been suspended for a number of years, and the Postal Service apparently has taken no effective action to reopen or close such offices. Pursuant to 39 U.S.C. 404(a)(3), the Postal Service has the authority to determine the need for post offices. Section 404 establishes the process with which the Postal Service must comply when closing or consolidating post offices. This process allows for public comment on the proposed closure and the appeal of a determination to close a post office. 39 U.S.C. 404(d). However, based on the information gathered in Docket No. A2009-1, it appears that the Postal Service may be avoiding this process by suspending post offices and allowing them to simply remain suspended without any action.

Pursuant to Handbook PO-101 section 617, the District Manager, Customer Service and Sales, must determine a plan of action to restore service, secure suitable alternate quarters, take other corrective action, or initiate a discontinuance study within 90 days of the suspension. Docket No. A2009-1, Commission Information Request No. 2, September 29, 2009, requests the Postal Service to provide a copy of its plan of action regarding the Hacker Valley post office. The Postal Service submitted the plan of action and indicated that it was studying the office for discontinuance.³ However, in Commission Information Request No. 3, October 26, 2009, question 1, the Commission lists several of the tasks required for the Preparing for Investigation phase of the discontinuance study and asks which tasks had been completed. The Postal Service replied that though the study had commenced, none of the listed tasks had been completed.⁴

It is not sufficient to simply suspend operations at a post office without promptly developing a plan to reopen or close the existing office. The Commission initiates this public inquiry to investigate this matter to better understand the scope of this problem. Interested persons, including members of the public who are patrons of recently suspended and not so recently suspended post offices, are invited to provide written comments.

³ Response of United States Postal Service to Commission Information Request No. 2, September 29, 2009.

⁴ Response of United States Postal Service to Commission Information Request No. 3, October 26, 2009, at 1.

II. Public Representative

Section 505 of title 39 requires the designation of an officer of the Commission in all public proceedings to represent the interests of the general public. The Commission hereby designates Richard A. Oliver as Public Representative in this proceeding. Pursuant to this designation, he will direct the activities of Commission personnel assigned to assist him and will, upon request, provide their names for the record. Neither he nor any of the assigned personnel will participate in or provide advice on any Commission decision in this proceeding.

An aspect of the responsibilities of the Public Representative will be to work with the Postal Service to develop an accurate representation of how written procedures related to the emergency suspension of post offices are being adhered to in actual practice. In addition, the Public Representative should review subsequent Postal Service action related to the relocation or closing of post offices that were suspended due to the expiration of the lease for the facility.

III. Ordering Paragraphs

It is ordered:

1. Docket No. PI2010-1 is established for the purpose of receiving comments pertaining to the suspension of post offices due to lease expirations.

2. Interested persons may submit written comments by January 15, 2010.

3. Reply comments also may be filed by February 16, 2010.

4. Richard A. Oliver is designated as the Public Representative to represent the interests of the general public in this docket.

5. The Secretary shall arrange for publication of this notice in the Federal Register.

By the Commission.
Judith M. Grady,
Acting Secretary.

[FR Doc. E9-27778 Filed 11-18-09; 8:45 am]

BILLING CODE 7710-FW-S